ENVIRONMENTAL PROTECTION AGENCY

[OPP-2003-0082; FRL-7301-4]

Difenzoquat, Diquat Dibromide; Notice of Closure for 2002 Tolerance Reassessment Decisions (TREDs)

AGENCY: Environmental Protection Agency (EPA).

ACTION: Notice.

SUMMARY: This notice announces the closure of the tolerance reassessment decisions for the chemical active ingredients difenzoquat and diquat dibromide. No adverse comments were received during the 30-day comment periods for the “Tolerance Reassessment Progress and Risk Mitigation Decision TRED for Difenzoquat” or the “Report of the Food Quality Protection Act (FQPA) Tolerance Reassessmemt and Risk Management Decision TRED for Diquat Dibromide.” Therefore, the TREDs for these chemicals fulfill the requirements of FQPA and are considered closed.

FOR FURTHER INFORMATION CONTACT: For difenzoquat: Tawanda Spears, Special Review and Reregistration Division (7508C), Office of Pesticide Programs, Environmental Protection Agency, 1200 Pennsylvania Ave., NW., Washington, DC 20460-0001; telephone number: (703) 308-8050; fax number: (703) 308-8005; e-mail address: spears.tawanda@epa.gov.

For diquat dibromide: Tyler Lane, Special Review and Reregistration Division (7508C), Office of Pesticide Programs, Environmental Protection Agency, 1200 Pennsylvania Ave., NW., Washington, DC 20460-0001; telephone number: (703) 305-2737; fax number (703) 308-8005; e-mail address: lane.tyler@epa.gov.

SUPPLEMENTARY INFORMATION:

I. General Information

A. Does this Action Apply to Me?

This action is directed to the public in general, and may be of particular interest to those persons who are or may be required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the persons listed under FOR FURTHER INFORMATION CONTACT.

B. How Can I Get Copies of this Document and Other Related Information?

1. Docket. EPA has established an official public docket for this action under docket identification (ID) number OPP-2003-0082. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number. Difenzoquat is identified under OPP-2002-0097 and diquat dibromide under OPP-2002-0098 in the EPA docket system.

II. Background

A. What Action is the Agency Taking?

This notice constitutes and announces the closing of the comment periods for the difenzoquat and diquat dibromide TREDs. These decisions have been developed as part of the public participation process that EPA and the U.S. Department of Agriculture (USDA) are using to involve the public in the reassessment of pesticide tolerances under FFDCA. EPA must review tolerances and tolerance exemptions that were in effect when FQPA was enacted in August of 1996, to ensure that these existing pesticide residue limits for food and feed commodities meet the safety standard of the new law.

In reviewing these tolerances, the Agency must consider, among other things, aggregate risks from non-occupational sources of pesticide exposure, where there increased susceptibility to infants and children, and the cumulative effects of pesticides with a common mechanism of toxicity. The tolerances are considered reassessed once the safety finding has been made that the aggregate risks are not of concern. A reregistration eligibility decision (RED) was completed for difenzoquat in September 1994 and for diquat dibromide in July 1995, both prior to FQPA enactment, and therefore needed updated assessments to consider the provisions of the Act.

The 30-day comment periods for the difenzoquat and diquat dibromide TREDs were closed on June 12, 2002 (67 FR 40296) (FRL-7181-4). As neither chemical received any adverse comments, the Agency considers the TREDs for these pesticides as immediate final decisions and hereby closed.

B. What is the Agency's Authority for Taking this Action?

The legal authority for this decision falls under FIFRA, as amended in 1988 and 1996. Section 4(g)(2)(A) of FIFRA directs that, after submission of all data concerning a pesticide active ingredient, “the Administrator shall determine whether pesticides containing such active ingredient are eligible for reregistration,” and either reregister products or take other “appropriate regulatory action.”

List Subjects

Environmental protection, pesticides, tolerance reregistration, difenzoquat, diquat dibromide.

Dated: April 16, 2003.
Lois A. Rossi,
Director, Special Review and Reregistration Division, Office of Pesticide Programs.

[FR Doc. 03-10265 Filed 4-29-03; 8:45 am]

BILLING CODE 6560-50-S